COMMITTEE FOR PURCHASE FROM PEOPLE WHO ARE BLIND OR SEVERELY DISABLED

Procurement List Proposed Additions and Deletions

AGENCY: Committee for Purchase From People Who Are Blind or Severely Disabled.

ACTION: Proposed additions to and deletions from the Procurement List.

SUMMARY: The Committee is proposing to add services to the Procurement List that will be provided by nonprofit agencies employing persons who are blind or have other severe disabilities and to delete the products and service previously furnished by such agencies.

Comments Must Be Received on or Before: 2/21/2011.

ADDRESSES: Committee for Purchase From People Who Are Blind or Severely Disabled, Jefferson Plaza 2, Suite 10800, 1421 Jefferson Davis Highway, Arlington, Virginia 22202-3259.

For Further Information or to Submit Comments Contact: Patricia Briscoe, Telephone: (703) 603-7740, Fax: (703) 603-0655, or e-mail CMTEFedReg@AbilityOne.gov.

SUPPLEMENTARY INFORMATION: This notice is published pursuant to 41 U.S.C. 47(a)(2) and 41 CFR 51-2.3. Its purpose is to provide interested persons an opportunity to submit comments on the proposed actions.

Additions

If the Committee approves the proposed additions, the entities of the Federal Government identified in this notice will be required to procure the services listed below from nonprofit agencies employing persons who are blind or have other severe disabilities.

Regulatory Flexibility Act Certification

I certify that the following action will not have a significant impact on a substantial number of small entities. The major factors considered for this certification were:

1. If approved, the action will not result in any additional reporting, recordkeeping or other compliance requirements for small entities other than the small organizations that will provide the services to the Government.

2. If approved, the action will result in authorizing small entities to provide the services to the Government.

3. There are no known regulatory alternatives which would accomplish the objectives of the Javits-Wagner-O'Day Act (41 U.S.C. 46-48c) in connection with the services proposed for addition to the Procurement List.

Comments on this certification are invited. Commenters should identify the statement(s) underlying the certification on which they are providing additional information.

End of Certification

The following services are proposed for addition to Procurement List for production by the nonprofit agencies listed:

Services

Service Type/Location: Contract Cook Support & Dining Facility Attendant, White Sands Missile Range, New Mexico.

NPA: Tresco, Inc., Las Cruces, NM.

Contracting Activity: Dept of the Army, XR W6BB ACA White Sands Missile Range, NM.

Service Type/Location: Laundry & Dry Cleaning Service, F.E. Warren AFB, WY.

NPA: Goodwill Industrial Services Corporation, Colorado Springs, CO.

Contracting Activity: Dept of the Air Force, FA4613 90 CONS LGC, F.E. Warren AFB, WY.

Service Type/Location: Custodial Service, 185th Air Refueling Wing, Buildings 234 and 241, 2920 Headquarters Avenue, Sioux City, IA.

NPA: Goodwill Community Rehabilitation Services, Inc., Sioux City, IA.

Contracting Activity: Dept of the Army, XRAW7M8 USPFO Activity IA ARNG, Johnston, IA.

Deletions

Regulatory Flexibility Act Certification

I certify that the following action will not have a significant impact on a substantial number of small entities. The major factors considered for this certification were:

1. If approved, the action will not result in additional reporting, recordkeeping or other compliance requirements for small entities.

2. If approved, the action may result in authorizing small entities to furnish the products and service to the Government.

3. There are no known regulatory alternatives which would accomplish the objectives of the Javits-Wagner-O'Day Act (41 U.S.C. 46-48c) in connection with the products and service proposed for deletion from the Procurement List.

End of Certification

The following products and service are proposed for deletion from the Procurement List:

Products

Floor Care Products

NSN: 7930-01-486-4050.

NSN: 7930-01-486-5928.

NSN: 7930-01-486-5930.

NPA: Lighthouse for the Blind of Houston, Houston, TX.

Contracting Activity: GSA/FAS Southwest Supply Center (QSDAC), Fort Worth, TX.

Service

Service Type/Location: Laundry Service, Atlanta VA Medical Center, 1670 Clairmont Road, Decatur, GA.

NPA: GINFL Services, Inc., Jacksonville, FL.

Contracting Activity: Department of Veterans Affairs, VISN 7 Consolidated Contracting, Augusta, GA.

Patricia Briscoe,
Deputy Director, Business Operations.

[FR Doc. 2011-1229 Filed 1-20-11; 8:45 am]

BILLING CODE 6353-01-P